DEPARTMENT OF HOMELAND SECURITY

Federal Emergency Management Agency

[Docket ID: FEMA-2010-0026]

Agency Information Collection Activities: Submission for OMB Review; Comment Request, OMB No. 1660-0046; FEMA/EMI Independent Study Course Enrollment and Test Answer Sheet

AGENCY: Federal Emergency Management Agency, DHS.

ACTION: Notice; 30-day notice and request for comments; revision of a currently approved information collection; OMB No. 1660-0046; FEMA Form 064-0-9 (formerly 95-23), FEMA/EMI Independent Study Course Enrollment and Test Answer Sheet (paper and electronic).

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 26, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: FEMA/EMI Independent Study Course Enrollment and Test Answer Sheet.

Type of Information Collection: Revision of a currently approved information collection.

OMB Number: 1660-0046.

Form Titles and Numbers: FEMA Form 064-0-9 (formerly 95-23), FEMA/EMI Independent Study Course Enrollment and Test Answer Sheet (paper and electronic).

Abstract: The Independent Study (IS) program offers self-paced courses designed for people who have emergency management responsibilities and the general public. All are offered free-of-charge to those who qualify for enrollment. Those who wish to participate select the course(s) they want to take, review the material and then complete an examination covering coursework. Successful completion results in a certificate that can be used to obtain continuing learning credit or even college credit.

Affected Public: Individuals and households, business or other for-profit, not for profit institutions, farms, Federal government, State, local or Tribal government.

Estimated Number of Respondents: 1,869,145.

Frequency of Response: On Occasion.

Estimated Average Hour Burden per Respondent: 2.1 Hours.

Estimated Total Annual Burden Hours: 3,925,204 Hours.

Estimated Cost: There are no annual capital, start-up, operation or maintenance costs associated with this collection.

Dated: July 7, 2010.
Tammi Hines,
Acting Director, Records Management Division, Mission Support Bureau, Federal Emergency Management Agency, Department of Homeland Security.

[FR Doc. 2010-18323 Filed 7-26-10; 8:45 am]

BILLING CODE 9111-72-P